DEPARTMENT OF STATE

[Delegation of Authority No 367]

Delegation of Authority With Respect to Administration and Enforcement of Immigration and Nationality Laws Relating to Powers, Duties and Functions of Diplomatic and Consular Officers

By virtue of the authority vested in me as Secretary of State, including by Section 1 of the State Department Basic Authorities Act, as amended (22 U.S.C. 2651a), and by the Immigration and Nationality Act (INA), I hereby delegate certain authorities to the Assistant Secretary for Consular Affairs:

(1) To the extent authorized by law, and subject to the limitations contained in section 104 of the INA (8 U.S.C. 1104) outlined in paragraph (2) of this delegation, and in section 428 of the Homeland Security Act (6 U.S.C. 236), I delegate to the Assistant Secretary for Consular Affairs authority for the administration and enforcement of the INA and all other immigration and nationality laws relating to the powers, duties and functions of diplomatic and consular officers of the United States, as well as any actions necessary to implement responsibilities of the Department of State, including consular officers, under the INA, including but not limited to establishing forms and publishing implementing regulations.

(2) There are hereby excluded from the authority delegated under paragraph (1) of this order: (a) The powers, duties, and functions conferred upon consular officers relating to the granting or refusal of visas; (b) authorities requiring the Secretary to determine that a matter is in the national interest or would affect U.S. foreign policy, relations, or interests; and (c) powers, duties, and functions designated by statute that are to be exercised solely by the Secretary or specified officers.

(3) The authorities covered by this delegation of authority may be re-delegated, to the extent authorized by law.

Any act, executive order, regulation, or procedure subject to, or affected by, this delegation shall be deemed to be such act, executive order, regulation, or procedure as amended from time to time.

Notwithstanding this delegation of authority, the Secretary, the Deputy Secretary, the Deputy Secretary for Management and Resources, and the Under Secretary for Management may at any time exercise any authority or function delegated by this delegation of authority.

No other delegations of authority are affected by this delegation of authority.

This delegation of authority shall be published in the Federal Register.

Dated: September 17, 2013.
John F. Kerry,
Secretary of State.

[FR Doc. 2013-27000 Filed 11-8-13; 8:45 am]

BILLING CODE 4710-06-P